DEPARTMENT OF TRANSPORTATION

Pipeline and Hazardous Materials Safety Administration

[Docket No. PHMSA-2016-0033]

Pipeline Safety: Gas and Liquid Advisory Committee Member Nominations

AGENCY: Pipeline and Hazardous Materials Safety Administration (PHMSA), DOT.

ACTION: Notice; request for nominations for members: Gas and Liquid Pipeline Advisory Committees; vacancies.

SUMMARY: PHMSA is requesting nominations for individuals to serve on the Gas Pipeline Advisory Committee (GPAC), also known as the Technical Pipeline Safety Standards Committee, and the Liquid Pipeline Advisory Committee (LPAC), also known as the Technical Hazardous Liquid Pipeline Safety Standards Committee. Each committee is composed of 15 members each appointed by the Secretary of Transportation (the Secretary).

With this notice, PHMSA is seeking nominations for personnel, preferably executive level leadership, from the Federal Government and from industry to fill vacancies on both committees. Specifically, PHMSA will fill one Federal Government vacancy and one industry vacancy on the GPAC and one Federal Government vacancy and three industry vacancies on the LPAC. PHMSA may also consider candidates for any government or industry vacancies that may occur during the processing of the vacancies mentioned above.

DATES: Nominations must be received by July 5, 2017.

ADDRESSES: All nomination material can be submitted to Cheryl Whetsel, Advisory Committee Program Manager, at Cheryl.whetsel@dot.gov, by fax at 202-366-4566, or mailed to the Pipeline and Hazardous Materials Safety Administration, 1200 New Jersey Ave. SE., PHP-30, E24-445, Washington, DC 20590.

FOR FURTHER INFORMATION CONTACT: Cheryl Whetsel, 202-366-4431 or cheryl.whetsel@dot.gov. Information about the GPAC and LPAC can also be obtained by visiting PHMSA's Web site by using the following link: http://www.phmsa.dot.gov/pipeline/regs/technical-advisory-comm.

SUPPLEMENTARY INFORMATION:

I. Advisory Committee Background

The GPAC and LPAC are statutorily mandated advisory committees that provide recommendations and advice on PHMSA's proposed safety standards. Additionally, the committees may propose safety standards to the Secretary, and, if requested by the Secretary, shall make policy development recommendations. Both committees were established in accordance with the Federal Advisory Committee Act, 5 U.S.C. App. 2, and 49 U.S.C. 60115.

No later than 90 days after receiving a proposed standard and supporting analyses, the appropriate committee prepares and submits a report to the Secretary of Transportation on the technical feasibility, reasonableness, cost-effectiveness, and practicability of the proposed standard. The Secretary must publish each report, including any recommended actions and minority views. The report, if timely made, is part of the proceeding for prescribing the standard. The Secretary is not bound by the committee's conclusions. However, if the Secretary rejects the committee's conclusions, the Secretary must publish the reasons.

Pursuant to 49 U.S.C. 60115, the Secretary of Transportation has the authority to appoint to each committee (1) five individuals from departments, agencies, and instrumentalities of the U.S. Government and of the states; (2) five individuals from the natural gas or hazardous liquid industry, selected in consultation with industry representatives; and (3) five individuals selected from the general public.

II. Criteria for Committee Members

With this notice, PHMSA is seeking nominations for personnel, preferably executive level leadership, from the Federal Government and from industry to fill vacancies on both committees. PHMSA will fill one Federal Government vacancy and one industry vacancy on the GPAC and one Federal Government vacancy and two industry vacancies on the LPAC. PHMSA may also consider candidates for any government or industry vacancies that may occur during the processing of the vacancies mentioned above.

Each GPAC member selected by the Secretary of Transportation must be experienced in the safety regulation of transporting gas and of gas pipeline facilities or technically qualified, by training, experience, or knowledge in at least one field of engineering applicable to transporting gas or operating a gas pipeline facility, to evaluate gas pipeline safety standards or risk management principles.

Similarly, each LPAC member selected by the Secretary of Transportation must be experienced in the safety regulation of transporting hazardous liquid and of hazardous liquid pipeline facilities or technically qualified by training, experience, or knowledge in at least one field of engineering applicable to transporting hazardous liquid or operating a hazardous liquid pipeline facility, to evaluate hazardous liquid pipeline safety standards or risk management principles.

Regarding nominations of industry personnel, at least three of the individuals selected for each committee from the industry must be currently in the active operation of natural gas or hazardous liquid pipelines or pipeline facilities. At least one individual selected for each committee serving from the industry must have education, background, or experience in risk assessment and cost-benefit analysis. Nominees should represent a broad constituency whose views the candidate can represent. Additionally, the Secretary will consult with the national organizations representing the owners and operators of pipeline facilities before selecting individuals from the industry.

III. Terms of Service

• Each member serves a three-year term, unless the member becomes unable to serve, resigns, ceases to be qualified to serve, or is removed by the Secretary.

• Members may be reappointed.

• All members serve at their own expense and receive no salary from the Federal Government, although travel reimbursement and per diem may be provided.

• The GPAC and LPAC generally meet in-person in the Washington, DC, Metropolitan area.

IV. Nomination Procedures

Any interested person may nominate one or more qualified individuals for membership on the advisory committee. Self-nominations are also accepted.

• Nominations must include a current, complete résumé including current business address and/or home address, telephone number, email address, education, professional or business experience, present occupation, and membership on other advisory committees past or present) for each nominee.

• Each nominee must meet the training, education, or experience requirements listed under section II above.

• Nominations must also specify the advisory committee for which the nominee is recommended (the GPAC or LPAC).

• Nominations must also acknowledge that the nominee is aware of the nomination unless the individual is self-nominated.

Issued in Washington, DC, on June 15, 2017, under authority delegated in 49 CFR 1.97.
Alan K. Mayberry,
Associate Administrator for Pipeline Safety.

[FR Doc. 2017-12805 Filed 6-19-17; 8:45 am]

BILLING CODE 4910-60-P